DEPARTMENT OF THE INTERIOR

Bureau of Land Management

[BLM_WY_FRN_MO4500182754]

Notice of Availability of the Draft Resource Management Plan and Environmental Impact Statement for the Newcastle Field Office, Wyoming, and Nebraska Planning Area

AGENCY: Bureau of Land Management, Interior.

ACTION: Notice of availability.

SUMMARY: In accordance with the National Environmental Policy Act of 1969, as amended (NEPA), and the Federal Land Policy and Management Act of 1976, as amended (FLMPA), the Bureau of Land Management (BLM) has prepared a Draft Resource Management Plan (RMP) and Draft Environmental Impact Statement (EIS) for the Newcastle Field Office and Nebraska Resource Management Plans (Newcastle and Nebraska RMPs) and by this notice is announcing the opening of the comment period on the Draft RMP/EIS and the BLM's proposed areas of critical environmental concern (ACECs).

DATES: This notice announces the opening of a 90-day comment period for the Draft RMP/EIS beginning with the date following the Environmental Protection Agency's (EPA) publication of its Notice of Availability (NOA) of the Draft RMP/EIS in the Federal Register. The EPA usually publishes its NOAs on Fridays.

To afford the BLM the opportunity to consider comments in the Proposed RMP/Final EIS, please ensure that the BLM receives your comments prior to the close of the 90-day public comment period or 15 days after the last public meeting, whichever is later.

In addition, this notice also announces the opening of a 90-day comment period for ACECs. The BLM must receive your ACEC-related comments by February 13, 2025.

The BLM will be holding multiple public meetings during the public comment period and the dates, times, and locations of these public meetings will be announced through public notices, news releases, social media, and mailings at least 15 days prior to the meetings.

ADDRESSES: The Draft RMP/EIS is available for review on the BLM ePlanning project website at https://eplanning.blm.gov/eplanning-ui/project/2013064/510.

Written comments related to the Newcastle and Nebraska RMPs may be submitted by any of the following methods:

• Website: https://eplanning.blm.gov/eplanning-ui/project/2013064/510.

• Email: BLM_WY_Newcastle_Nebraska_RMP@blm.gov.

• Mail: BLM, High Plains District Office, 2987 Prospector Drive, Casper, WY 82604, OR BLM, Newcastle Field Office, 1101 Washington Boulevard, WY 82701.

Documents pertinent to this proposal may be examined online at blm.gov/eplanning-ui/project/2013064/510 and at the Newcastle Field Office.

FOR FURTHER INFORMATION CONTACT: Kathleen T. Lacko, Project Manager, telephone (307) 261-7536; address BLM High Plains District Office, 2987 Prospector Drive, Casper, WY 82604; email blm_wy_newcastle_nebraska_rmp@blm.gov. Individuals in the United States who are deaf, deafblind, hard of hearing, or have a speech disability may dial 711 (TTY, TDD, or TeleBraille) to access telecommunications relay services for contacting Ms. Lacko. Individuals outside the United States should use the relay services offered within their country to make international calls to the point-of-contact in the United States.

SUPPLEMENTARY INFORMATION: This document provides notice that the BLM Wyoming State Director has prepared a Draft RMP/EIS and announces the comment period on the Draft RMP/EIS and the BLM's proposed ACECs. The planning area includes Crook, Weston, and Niobrara Counties in Wyoming and all counties in Nebraska, and encompasses approximately 287,900 acres of surface public lands and 1,738,900 acres of Federal mineral estate in Wyoming, and approximately 5,100 acres of surface public lands and 223,900 acres of Federal mineral estate in Nebraska. In addition to BLM-managed surface lands, the planning area includes the mineral estate beneath the following:

Newcastle Field Office, Wyoming: One National Monument, administered by the National Park Service; one National Forest and one National Grassland administered by the US Forest Service; one State Park, administered by Wyoming State Parks and Cultural Resources; and historic and indigenous trails.

Nebraska: Seven National Wildlife Refuges administered by the U.S. Fish and Wildlife Service; five National Historic Trails, two National Monuments, one National Recreational River, and one National Scenic River administered by the National Park Service; two designated wilderness areas and two proposed wilderness areas; three Indian Reservations and three American Indian Trust Lands; two National Forests and three National Grasslands administered by US Forest Service; and seventy-three State Parks, State Historic Parks, or State Recreation Areas administered by the Nebraska Game and Parks Commission.

Purpose and Need for the Planning Effort

The purpose of the Newcastle and Nebraska RMPs/EIS is to provide a comprehensive framework to guide management of BLM-administered surface land in the planning area. The RMPs/EIS will incorporate new data, address land use issues and conflicts, and specify where and under what circumstances activities will be allowed on BLM-administered surface lands. The objectives, land use allocations, and management decisions will be based on the principals of multiple use and sustained yield, except where a tract of such public land has been dedicated to specific uses according to another provision of law. All management direction must meet the objectives of the BLM's multiple use management mandate and responsibilities under FLPMA Section 202(c) and (e) and is subject to valid existing rights. These include all valid leases, permits, patents, rights-of-way (ROWs), or other land use rights or authorizations in place at the time the RMP decision is approved.

The Newcastle Field Office (NFO) has determined the need to update the two RMPs it relies on to manage the public land and Federal mineral estate in the planning areas. Assessments of these plans showed they require updating to address new information and changes to resources and resource uses within the planning area since the BLM completed the NFO RMP/EIS in 2000 and the Nebraska RMP in 1992. The revised RMPs will replace the existing Newcastle RMP/Record of Decision (ROD) and Nebraska RMP/ROD.

Alternatives Including the Preferred Alternative

The BLM has analyzed four alternatives in detail, including the no action alternative.

Alternative A—No Action Alternative

• Continue existing management under Newcastle (2000) and Nebraska (1992) RMPs

• Approximately 286,500 acres are identified as available for disposal (Newcastle)

Alternative B—Emphasize Resource Protection

• Conservation emphasis

• Emphasis on ACEC designations (Newcastle: 1 existing with expansion, 1 BLM proposed)

• Approximately 3,300 acres are identified as available for disposal (Newcastle)

• Most protected areas and use restrictions

Alternative C—Maximize Resource Use

• Resource use emphasis

• Fewest protected areas and restrictions to resource uses

• One ACEC brought forward from existing management without expansion (Same as Alternative A)

• Approximately 30,300 acres are identified as available for disposal (Newcastle)

Alternative D—Balance Resource Protection and Use (Preferred Alternative)

• Balance of conservation and resource use

• Two ACECs in Special Designations (Newcastle: refined boundary of proposed ACEC)

• One proposed Backcountry Conservation Area (Newcastle)

• Approximately 9,700 acres are identified as available for disposal (Newcastle)

• Multiple use focus with prescriptive actions to allow protections with more flexibility

The State Director has identified Alternative D as the preferred alternative, as it. best meets the State Director's planning guidance and the purpose and need. This alternative balances components (objectives and management directions) of the other alternatives considered (Alternatives A, B, and C) and allows for multiple use with a variety of prescriptive actions to allow protections with flexibility.

Mitigation

Appendix C in Volume 2 of the Draft EIS is the Wyoming BLM Mitigation Guidelines for Surface Disturbing and Disruptive Activities. Mitigation in Nebraska will be in accordance with BLM policy.

ACECs

Consistent with land use planning regulations at 43 CFR 1610.7-2(b), the BLM is announcing the opening of a 90-day comment period on the ACECs proposed for designation in the preferred alternative. Comments may be submitted using any of the methods listed in the ADDRESSES section earlier.

The proposed ACECs included in the preferred alternative for the Newcastle RMP are:

• Whoopup Canyon ACEC is an existing ACEC that has approximately 1,400 acres and contains rock art ranging from 2,400-11,500 years old. The preferred alternative would expand the current ACEC by approximately 200 acres, making it a total of approximately 1,600 acres.

• The Little Missouri Antelope Trap ACEC is a Native American antelope trap complex containing trap structures and drive lines, occupation sites, and ceremonial significance, located in Crook County. Proposed for its rare and sensitive cultural resources, the boundary of the Little Missouri Antelope Trap ACEC in Alternative B (9,500 acres) encompasses adjacent non-contributing cultural sites and includes an expanded boundary that would provide increased protection of the cultural setting of the trap site. In Alternative D, the Preferred Alternative, the ACEC would cover approximately 5,300 acres, with the boundary of the ACEC refined based on information received from Tribal field visits, academic studies, and public and cooperating agency input. This information indicated the importance of not only the physical trap features, but also the landscape, setting, and ceremonial features directly contributing to the significance of the Little Missouri Antelope Trap.

Schedule for the Decision-Making Process

The BLM will provide additional opportunities for public participation consistent with the NEPA and land use planning processes, including a 30-day public protest period and a 60-day Governor's consistency review on the Proposed RMP. The Proposed RMP/Final EIS is anticipated to be available for public protest July 2025 with an Approved RMP and ROD October 2025.

The BLM will be holding five public meetings in the following locations: in-person meetings will be held in Sundance, Newcastle, and Lusk, Wyoming, and Scottsbluff, Nebraska, and one meeting will be held virtually. The specific date(s) and location(s) of these meetings will be announced at least 15 days in advance through local media, newspapers, and the ePlanning project page: https://eplanning.blm.gov/eplanning-ui/project/2013064/510.

The BLM will continue to consult with Indian Tribal Nations on a government-to-government basis in accordance with Executive Order 13175, BLM MS 1780, and other Departmental policies. Tribal concerns, including impacts on Indian trust assets and potential impacts to cultural resources, will be given due consideration. Government-to-government meetings will continue, and field visits are planned for interested Tribes.

During public review of this Draft RMPs/EIS, the BLM is seeking constructive input regarding the proposals for managing resources and resource uses.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2, 43 CFR 1610.7-2)

Andrew S. Archuleta,
State Director.

[FR Doc. 2024-26665 Filed 11-14-24; 8:45 am]

BILLING CODE 4331-26-P